FEDERAL COMMUNICATIONS COMMISSION

[OMB 3060-1211]

Information Collection Requirement Being Submitted to the Office of Management and Budget for Emergency Review and Approval

AGENCY: Federal Communications Commission.

ACTION: Notice and request for comments.

SUMMARY: As part of its continuing effort to reduce paperwork burdens, and as required by the Paperwork Reduction Act (PRA) of 1995 (44 U.S.C. 3501-3520), the Federal Communications Commission invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before October 28, 2016.

ADDRESSES: Direct all PRA comments to Nicholas A. Fraser, OMB, via email Nicholas_A._Fraser@omb.eop.gov; and to Cathy Williams, FCC, via email PRA@fcc.gov and to Cathy.Williams@fcc.gov. Include in the comments the Title as shown in the “Supplementary Information” section below.

FOR FURTHER INFORMATION CONTACT: For additional information about the information collection, contact Cathy Williams at (202) 418-2918.

SUPPLEMENTARY INFORMATION: The Commission is requesting emergency OMB processing of the information collection requirement(s) contained in this notice and has requested OMB approval no later than 26 days after the collection is received at OMB. To view a copy of this information collection request (ICR) submitted to OMB: (1) Go to the Web page http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

OMB Control Number: 3060-1211.

Title: Sections 96.17; 96.21; 96.23; 96.33; 96.35; 96.39; 96.41; 96.43; 96.45; 96.51; 96.57; 96.59; 96.61; 96.63; 96.67, Commercial Operations in the 3550-3650 MHz Band.

Form Number: N/A.

Type of Review: Revision of a currently approved collection.

Respondents: Business or other for-profit entities, not-for-profit institutions, and state, local or tribal governments.

Estimated Number of Respondents and Responses: 110,782 respondents and 146,432 responses.

Estimated Time per Response: 0.25-1 hour.

Frequency of Response: One time and on occasion reporting requirements; other reporting requirements—as needed basis for the equipment safety certification, and consistently (likely daily) responses automated via the device.

Obligation To Respond: Statutory authority for this currently approved information collection is contained in Sections 1, 2, 4(i), 4(j), 5(c), 302(a), 303, 304, 307(e), and 316 of the Communications Act of 1934, as amended, 47 U.S.C. 151, 152, 154(i), 154(j), 155(c), 302(a), 303, 304, 307(e), and 316. Statutory authority for the revised information collection is contained in Sections 1, 2, 4(i), 4(j), 5(c), 302(a), 303, 304, 307(e), and 316 of the Communications Act of 1934, as amended, 47 U.S.C. 151, 152, 154(i), 154(j), 155(c), 302(a), 303, 304, 307(e), and 316.

Estimated Total Annual Burden: 52,977 hours.

Total Annual Costs: $8,818,100.

Nature and Extent of Confidentiality: There is no need for confidentiality with this information collection.

Privacy Act Impact Assessment: No impact(s).

Needs and Uses: In the 3.5 GHz Order, the Commission adopted rules to protect existing licensees' registered base stations in the 3650-3700 MHz band from harmful interference from Citizens Broadband Radio Service users for a fixed transition period. Pursuant to Section 96.21(a)(1) and (2) of the Commission's rules, during the transition period, existing licensees will receive protection for operations that are within their Grandfathered Wireless Protection Zone, provided that: (1) The stations were registered in the Commission's Universal Licensing System (ULS) on or before April 17, 2015; and (2) as of April 17, 2016 the stations were constructed, in service, and fully compliant with the relevant operating rules.

The 3.5 GHz Order established rules for commercial use of 150 megahertz in the 3.5 GHz Band and creates a new Citizens Broadband Radio Service. The rules create additional capacity for wireless broadband by adopting a new approach to spectrum management to facilitate more intensive spectrum sharing between commercial and federal users and among multiple tiers of commercial users. Freeing additional spectrum is one of the Commission's core spectrum policy goals and the President's Council of Advisors on Science and Technology recommended that this band would be particularly well suited for spectrum sharing.

Before the release of the 3.5 GHz Order, the band segment was currently reserved for use by Department of Defense (DoD) radar systems and commercial fixed satellite service (FSS) earth stations (in the 3600-3650 MHz portion of the band), as well as Grandfathered Wireless Broadband Radio Services. The 3.5 GHz Order established a roadmap for making the entirety of the 3.5 GHz band available for commercial use in a phased manner. This sharing arrangement is part of a broader three-tiered sharing framework enabled by a Spectrum Access System (SAS). The SAS incorporates a dynamic spectrum database and serves as an advanced, highly automated frequency coordinator across the band.

Incumbent users represent the highest tier in this framework and receive interference protection from Citizens Broadband Radio Service users. Protected incumbents include the federal operations and FSS earth stations described above and, for a finite period, Grandfathered Wireless Broadband Licensees. Non-federal incumbents must register the parameters of their operations with the Commission and/or an SAS to receive protection from Citizens Broadband Radio Service users.

On August 19, 2016, the Wireless Telecommunications Bureau (WTB) and Office of Engineering and Technology (OET) released a Public Notice adopting the final methodology for determining Grandfathered Wireless Protection Zones for existing licensees in the 3650-3700 MHz band, establishing a baseline contour used to protect these areas. See 47 CFR 96.3 (Grandfathered Wireless Protection Zone), Wireless Telecommunications Bureau and Office of Engineering and Technology Announce Methodology for Determining the Protected Contours for Grandfathered 3650-3700 MHz Licensees, GN Docket No. 12-354, Public Notice, FCC 16-946 (Aug. 19, 2016). The Public Notice reiterated that licensees are required to certify which of their base stations were constructed, in service, and in full compliance with the rules by April 17, 2016. At the same time that licensees certify to the above they must identify whether or not that base station has unregistered Customer Premises Equipment (CPE) and the distance to the furthest registered CPE for each sector.

The Commission's rules establishing registration and construction requirements for Grandfathered Wireless Broadband Licensees are intended to distinguish between “real” networks that that have received substantial investment and provide socially productive service from “paper networks” whose only effect is to restrict spectrum accessible by the Citizens Broadband Radio Service. The revised information collection under sections 96.21(a)(1) and (2) will help the Commission and the SASs protect these existing networks from interference during the transition period while promoting spectral access and efficiency by new users in the band and is an important step in making this band available for commercial use. Further, the information will allow the licensees that have invested in such networks to receive interference protection as afforded by the rules.

Federal Communications Commission.
Marlene H. Dortch,
Secretary. Office of the Secretary.

[FR Doc. 2016-24275 Filed 10-6-16; 8:45 am]

BILLING CODE 6712-01-P